COMMITTEE FOR THE IMPLEMENTATION OF TEXTILE AGREEMENTS

Determination Under the African Growth and Opportunity Act

AGENCY: Committee for the Implementation of Textile Agreements.

ACTION: Directive to the Commissioner of U.S. Customs and Border Protection

SUMMARY: The Committee for the Implementation of Textile Agreements (CITA) has determined that certain textile and apparel goods from Benin shall be treated as “folklore articles” and “ethnic printed fabrics” and qualify for preferential treatment under the African Growth and Opportunity Act (“AGOA”). Imports of eligible products from Benin with an appropriate visa will qualify for duty-free treatment.

DATES: As of June 14, 2013.

FOR FURTHER INFORMATION CONTACT: Don Niewiaroski, Jr., International Trade Specialist, Office of Textiles and Apparel, U.S. Department of Commerce, (202) 482-2496.

SUPPLEMENTARY INFORMATION:

Authority: Sections 112(a) and 112(b)(6) of the African Growth and Opportunity Act (Title I of the Trade and Development Act of 2000, Pub. L. No. 106-200) as amended by Section 7(c) of the AGOA Acceleration Act of 2004 (Pub. L. 108-274) (“AGOA Acceleration Act”) (19 U.S.C. 3721(a) and (b)(6)); Sections 2 and 5 of Executive Order No. 13191 of January 17, 2001; Sections 25-27 and Paras. 13-14 of Presidential Proclamation 7912 of June 29, 2005.

AGOA provides preferential tariff treatment for imports of certain textile and apparel products of beneficiary sub-Saharan African countries, including handloomed, handmade, or folklore articles of a beneficiary country that are certified as such by the competent authority in the beneficiary country. The AGOA Acceleration Act further expanded AGOA by adding ethnic printed fabrics to the list of textile and apparel products made in the beneficiary sub-Saharan African countries that may be eligible for the preferential treatment described in section 112(a) of the AGOA. In Executive Order 13191 (January 17, 2001) and Presidential Proclamation 7912 (June 29, 2005), the President authorized CITA to consult with beneficiary sub-Saharan African countries and to determine which, if any, particular textile and apparel goods shall be treated as being handloomed, handmade, folklore articles, or ethnic printed fabrics. See 66 FR 7271, 7271-72 (January 22, 2001) and 70 FR 37959, 37961 & 63 (June 30, 2005).

In a letter to the Commissioner of Customs dated January 18, 2001, the United States Trade Representative directed Customs to require that importers provide an appropriate export visa from a beneficiary sub-Saharan African country to obtain preferential treatment under section 112(a) of the AGOA. See 66 FR 7837 (January 25, 2001). The first digit of the visa number corresponds to one of the groupings of textile and apparel products that are eligible for preferential tariff treatment. Grouping “9” is reserved for handmade, handloomed, folklore articles, or ethnic printed fabrics.

CITA consulted with Benin authorities on November 7, 2012, January 3, 2013, April 11, 2013, and May 29, 2013 and has determined that folklore articles described in Annex A and ethnic printed fabrics described in Annex B, if produced in and exported from Benin, are eligible for preferential tariff treatment under section 112(a) of the AGOA, as amended. After further consultations with Benin authorities, CITA may determine that additional textile and apparel goods shall be treated as handloomed, handmade, folklore articles or ethnic printed fabrics. In the letter published below, CITA directs the Commissioner of U.S. Customs and Border Protection to allow duty-free entry of such products under U.S. Harmonized Tariff Schedule subheading 9819.11.27 if accompanied by an appropriate AGOA visa in grouping “9”.

Kim Glas,
Chairman, Committee for the Implementation of Textile Agreements.

Committee for the Implementation of Textile Agreements

June 11, 2013.

Commissioner, U.S. Customs and Border Protection, Department of Homeland Security, Washington, DC 20229

Dear Commissioner: The Committee for the Implementation of Textiles Agreements (“CITA”), pursuant to Sections 112(a) and (b)(6) of the African Growth and Opportunity Act (Title I of the Trade and Development Act of 2000, Pub. L. 106-200) (“AGOA”), as amended by Section 7(c) of the AGOA Acceleration Act of 2004, (Pub. L. 108-274) (“AGOA Acceleration Act”) (19 U.S.C. 3721(a) and (b)(6)), Executive Order No. 13191 of January 17, 2001, and Presidential Proclamation 7912 of June 29, 2005, has determined, as of June 14, 2013, that the following articles shall be treated as handloomed, handmade, folklore articles, or ethnic printed fabrics under the AGOA: (a) folklore articles described in Annex A to this letter and (b) ethnic printed fabrics described in Annex B, if made in Benin. Such articles are eligible for duty-free treatment only if entered under subheading 9819.11.27 and accompanied by a properly completed visa for product grouping “9”, in accordance with the provisions of the Visa Arrangement between the Government of Benin and the Government of the United States Concerning Textile and Apparel Articles Claiming Preferential Tariff Treatment under Section 112 of the Trade and Development Act of 2000. After further consultations with Benin authorities, CITA may determine that additional textile and apparel goods shall be treated as for handmade, handloomed, folklore articles, or ethnic printed fabrics.

Sincerely,

Kim Glas

Chairman, Committee for the Implementation of Textile Agreements

Annex A: Benin Folklore Products

CITA has determined that the following textile and apparel goods shall be treated as folklore articles for purposes of the AGOA if such goods are made in Benin. Articles must be ornamented in characteristic Benin or regional folk style. An article may not include modern features such as zippers, elastic, elasticized fabrics, snaps, or hook-and-pile fasteners (such as velcro© or similar holding fabric). An article may not incorporate patterns that are not traditional or historical to Benin, such as airplanes, buses, cowboys, or cartoon characters and may not incorporate designs referencing holidays or festivals not common to traditional Benin culture, such as Halloween and Thanksgiving. Eligible folklore articles:

(a) Bomba: Made of cotton and/or synthetic fibers. Hand-woven on manually operated looms then hand or machine stitched. There are also fringes on the end of the sleeves and the bottom of the shirt. The shirt extends beyond the waist, has a pocket, an open neck that stays closed, and the sleeves extend a little past the elbow; the embroidery is around the neck, down the neck opening to the chest, and on top of the pocket. The pants are baggy and have no embroidery. The pattern of the ensemble is houndstooth and the colors are variable, white, and black.

(b) Barmassou (Daunchiki): Made of cotton and/or synthetic fibers. Bands are hand-woven in manually operated looms then machine stitched together to form a wider substrate. This is a three piece garment for men—hat, loose fitting outer garment that extends from the thorax to the knees, and baggy pants. Patterns can vary but are usually plain weave. Colors are usually white and sometimes black and white.

(c) Boubou (Batik Peulh or Aizo): Made of cotton textile amassed, hand or machine assembled and hand dyed with repetitive patterns. This is a one piece dress for women—it is loose fitting with sleeves going to or a little past the elbow and the bottom of the garment going slightly past the knees. The edges of the sleeves and the bottom usually have fringes. Patterns and colors vary.

(d) Daunchiki: Made of cotton and/or synthetic fibers. Bands are hand-woven in manually operated looms then machine stitched together to form a wider substrate. This is a three piece garment for men—hat, loose fitting outer garment that extends from the thorax to the knees, and baggy pants with a cord that acts as a belt. Patterns are stripes of “fakle issile”. Colors are usually white and sometimes black and white.

(e) King's hat (Daa zaa): Made of cotton. This is a cap for men. It is cylindrical in shape. It has various patterns and designs and colors

(f) Peulh: Made of cotton from manually operated loom. This is a one piece dress/robe for women—it is loose fitting with sleeves ending at the shoulder and the bottom of the dress/robe going to the mid-shin level. This dress also has a slight v-neck. The v-neck can be closed at the top with a loop and bottom. Colors and patterns vary.

(g) Tako: Made of cotton bands hand-woven in manually operated looms then hand and/or machined stitched together to form a wider substrate. This is a three piece garment for men—hat, loose fitting outer garment which extends from the thorax to the feet, and baggy pants. Patterns are a mix of guinea fowl and bakoko. Comes in various colors, usually with vertical strips.

(h) Tako (Grand Baubou): Made of cotton bands hand-woven in manually operated looms then hand and/or machined stitched together to form a wider substrate. This is a three piece garment for men—hat, loose fitting outer garment which extends from the thorax to the feet, and baggy pants. The pattern varies and is usually plain weave. The colors are typically white, black and white.

(i) Tchanka (Cavaliers Pants): Made of cotton fabric hand-woven operated on looms by hand and machine stitched. The colors vary and the pattern is houndstooth then gbangbana. It is a loose fitting pants for men, consisting of baggy from the waist to approximately the knees and then tighter after the knees to the ankles.

(j) Wanwolovo: Made of mix of cotton and synthetic fibers. It is hand-woven from a manually operated loom to form a chain of patterns. This is a three piece garment for women—this consists of a wrap that goes around the body above the breast area and under the arms going down to below the knees; another wrap hangs over one shoulder; the last wrap is wrapped around the head. It has a chain of patterns. These wraps can have fringes on the ends. Colors are blue, red, white but colors can vary.

Annex B: Benin Ethnic Printed Fabrics

Each ethnic print must meet all of the criteria listed below:

(A) Selvedge on both edges.

(B) Width of less than 50 inches.

(C) Classifiable under subheading 5208.52.30 ¹ or 5208.52.40 ² of the Harmonized Tariff Schedule of the United States.

¹ printed plain weave fabrics of cotton, 85% or more cotton by weight, weighing more than 100g/m2 but not more than 200 g/m2, of yarn number 42 or lower.

² printed plain weave fabrics of cotton, 85% or more cotton by weight, weighing more than 100g/m2 but not more than 200g/m2, of yarn numbers 43-68.

(D) Contains designs, symbols, and other characteristics of African prints normally produced for and sold in Africa by the piece.

(E) Made from fabric woven in the U.S. using U.S. yarn or woven in one or more eligible sub-Saharan beneficiary countries using U.S. or African yarn.

(F) Printed, including waxed, in one or more eligible sub-Saharan beneficiary countries.

[FR Doc. 2013-14364 Filed 6-18-13; 8:45 am]

BILLING CODE 3510-DS-P